DEPARTMENT OF TRANSPORTATION

Federal Aviation Administration

14 CFR Part 39

[Docket No. FAA-2014-0060; Directorate Identifier 2012-NM-194-AD; Amendment 39-17943; AD 2014-16-19]

RIN 2120-AA64

Airworthiness Directives; Airbus Airplanes

AGENCY: Federal Aviation Administration (FAA), Department of Transportation (DOT).

ACTION: Final rule.

SUMMARY: We are superseding Airworthiness Directives (AD) 2006-21-08, AD 2007-14-01, AD 2008-25-02, AD 2010-04-09, AD 2011-01-02, and AD 2012-16-05, for certain Airbus Model A330 and A340 series airplanes. AD 2006-21-08, AD 2007-14-01, AD 2008-25-02, AD 2010-04-09, AD 2011-01-02, and AD 2012-16-05 required revising the maintenance program or inspection program to incorporate certain maintenance requirements and airworthiness limitations for fuel tank systems. This new AD requires a new maintenance or inspection program revision. This AD was prompted by a determination that more restrictive maintenance requirements and airworthiness limitations are necessary. We are issuing this AD to prevent the potential of ignition sources inside fuel tanks, which, in combination with flammable fuel vapors, could result in fuel tank explosions and consequent loss of the airplane.

DATES: This AD becomes effective September 25, 2014.

The Director of the Federal Register approved the incorporation by reference of a certain publication listed in this AD as of September 25, 2014.

ADDRESSES: You may examine the AD docket on the Internet at http://www.regulations.gov/#!docketDetail;D=FAA-2014-0060; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede the ADs listed below:

• Airworthiness Directive AD 2006-21-08, Amendment 39-14793 (71 FR 61639, October 19, 2006);

• AD 2007-14-01, Amendment 39-15123 (72 FR 38006, July 12, 2007);

• AD 2008-25-02, Amendment 39-15760 (73 FR 75307, December 11, 2008);

• AD 2010-04-09, Amendment 39-16202 (75 FR 7940, February 23, 2010; corrected March 3, 2010 (75 FR 9515));

• AD 2011-01-02, Amendment 39-16555 (76 FR 432, January 5, 2011); and

• AD 2012-16-05, Amendment 39-17152 (77 FR 48425, August 14, 2012).

Airworthiness Directives AD 2006-21-08, AD 2007-14-01, AD 2008-25-02, AD 2010-04-09, AD 2011-01-02, and AD 2012-16-05 applied to certain Airbus Model A330 and A340 series airplanes. The NPRM published in the Federal Register on February 27, 2014 (79 FR 11019).

The European Aviation Safety Agency (EASA), which is the Technical Agent for the Member States of the European Community, has issued EASA Airworthiness Directive 2012-0168, dated August 31, 2012 (referred to after this as the Mandatory Continuing Airworthiness Information, or “the MCAI”), to correct an unsafe condition certain Airbus Model A330 and A340 series airplanes. The MCAI states:

Prompted by an accident [involving a fuel tank system explosion in flight] * * * the FAA published Special Federal Aviation Regulation (SFAR) 88 (66 FR 23086, May 7, 2001) and the Joint Aviation Authorities (JAA) published Interim Policy INT/POL/25/12. The design review conducted Airbus to develop Fuel Airworthiness Limitations (FAL) for Airbus on A330 and A340 aeroplanes in response to these regulations.

The FAL* * * have been approved by the European Aviation Safety Agency (EASA)* * *ALS Part 5.

Failure to comply with items as identified in Airbus A330 and A340 ALS Part 5 could result in a fuel tank explosion and consequent loss of the aeroplane.

To address this condition, EASA issued:

EASA AD 2007-0023, dated January 25, 2007 [http://ad.easa.europa.eu/ad/2007-0023], which corresponds to FAA AD 2007-14-01, Amendment 39-15123 (72 FR 38006, July 12, 2007) to require compliance with FAL* * * (comprising maintenance/inspection tasks and Critical Design Configuration Control Limitations (CDCCL)) for A330 aeroplanes, and

EASA AD 2006-0205, dated July 11, 2006 [http://ad.easa.europa.eu/ad/2006-0205], which also corresponds to FAA AD 2007-14-01, Amendment 39-15123 (72 FR 38006, July 12, 2007) to require compliance with FAL * * * (comprising maintenance/inspection tasks and Critical Design Configuration Control Limitations (CDCCL)) for Airbus A340 aeroplanes.

All other EASA ADs * * * required accomplishment of aeroplane modifications related to Fuel Tank Safety items, the requirements and compliance times of which are now integrated into ALS Part 5.

For the reasons described above this [EASA] AD * * * requires the implementation of the new or more restrictive maintenance requirements and/or airworthiness limitations as specified in the revision 00 of Airbus A340 ALS Part 5.

The unsafe condition is the potential of ignition sources inside fuel tanks. Such ignition sources, in combination with flammable fuel vapors, could result in fuel tank explosions and consequent loss of the airplane. You may examine the MCAI in the AD docket on the Internet at http://www.regulations.gov/#!documentDetail;D=FAA-2014-0060-0002.

Comments

We gave the public the opportunity to participate in developing this AD. We received no comments on the NPRM (79 FR 11019, February 27, 2014) or on the determination of the cost to the public.

Explanation of Change Made to This AD

We have revised paragraph (i) of this AD by removing a reference to a paragraph that was not needed.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the relevant data and determined that air safety and the public interest require adopting this AD with the changes described previously and minor editorial changes. We have determined that these minor changes:

• Are consistent with the intent that was proposed in the NPRM (79 FR 11019, February 27, 2014) for correcting the unsafe condition; and

• Do not add any additional burden upon the public than was already proposed in the NPRM (79 FR 11019, February 27, 2014).

We also determined that these changes will not increase the economic burden on any operator or increase the scope of this AD.

Costs of Compliance

We estimate that this AD affects 80 airplanes of U.S. registry.

We also estimate that it will take about 1 work-hour per product to comply with the new basic requirements of this AD. The average labor rate is $85 per work-hour. Required parts will cost $0 per product. Based on these figures, we estimate the cost of this AD on U.S. operators to be $6,800, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0060; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directives (AD) AD 2006-21-08, Amendment 39-14793 (71 FR 61639, October 19, 2006); AD 2007-14-01, Amendment 39-15123 (72 FR 38006, July 12, 2007); AD 2008-25-02, Amendment 39-15760 (73 FR 75307, December 11, 2008); AD 2010-04-09, Amendment 39-16202 (75 FR 7940, February 23, 2010; corrected March 3, 2010 (75 FR 9515)); AD 2011-01-02, Amendment 39-16555 (76 FR 432, January 5, 2011); AD 2012-16-05, and Amendment 39-17152 (77 FR 48425, August 14, 2012); and

b. Adding the following new AD:

2014-16-19 Airbus: Amendment 39-17943. Docket No. FAA-2014-0060; Directorate Identifier 2012-NM-194-AD.

(a) Effective Date

This AD becomes effective September 25, 2014.

(b) Affected ADs

This AD replaces the ADs specified in paragraphs (b)(1) through (b)(6) of this AD.

(1) AD 2006-21-08, Amendment 39-14793 (71 FR 61639, October 19, 2006).

(2) AD 2007-14-01, Amendment 39-15123 (72 FR 38006, July 12, 2007).

(3) AD 2008-25-02, Amendment 39-15760 (73 FR 75307, December 11, 2008).

(4) AD 2010-04-09, Amendment 39-16202 (75 FR 7940, February 23, 2010; corrected March 3, 2010 (75 FR 9515)).

(5) AD 2011-01-02, Amendment 39-16555 (76 FR 432, January 5, 2011).

(6) AD 2012-16-05, Amendment 39-17152 (77 FR 48425, August 14, 2012).

(c) Applicability

This AD applies to Airbus Model A330-201, -202, -203, -223, -243, -223F, -243F, -301, -302, -303, -321, -322, -323, -341, -342, and -343 airplanes, certificated in any category, all manufacturer serial numbers.

(d) Subject

Air Transport Association (ATA) of America Code 05, Time Limits/Maintenance Checks.

(e) Reason

This AD was prompted by a determination that more restrictive maintenance requirements and airworthiness limitations are necessary. We are issuing this AD to prevent the potential of ignition sources inside fuel tanks, which, in combination with flammable fuel vapors, could result in fuel tank explosions and consequent loss of the airplane.

(f) Compliance

Comply with this AD within the compliance times specified, unless already done.

(g) Maintenance Program Revision and Airworthiness Limitations Compliance

(1) Within 3 months after the effective date of this AD, revise the maintenance or inspection program, as applicable, by incorporating Airbus A330 Airworthiness Limitations Section (ALS) Part 5—Fuel Airworthiness Limitations, dated November 16, 2011.

(2) Comply with all applicable instructions and airworthiness limitations included in Airbus A330 ALS Part 5—Fuel Airworthiness Limitations, dated November 16, 2011. The initial compliance times for the actions specified in Airbus A330 ALS Part 5—Fuel Airworthiness Limitations, dated November 16, 2011, are at the later of the times specified in paragraphs (g)(2)(i) and (g)(2)(ii) of this AD, except as required by paragraphs (h) and (i) of this AD.

(i) Within the applicable compliance times specified in Airbus A330 ALS Part 5—Fuel Airworthiness Limitations, dated November 16, 2011.

(ii) Within 3 months after accomplishing the actions required by paragraph (g)(1) of this AD.

(h) Exceptions to Compliance Times for Design Changes

(1) For type design changes specified in “Sub-part 5-2 Changes to Type Design,” of Airbus A330 ALS Part 5—Fuel Airworthiness Limitations, dated November 16, 2011, the compliance times are defined as “Embodiment Limits,” except as defined in paragraph (h)(2) of this AD.

(2) Where Airbus A330 ALS Part 5—Fuel Airworthiness Limitations, dated November 16, 2011, specifies a compliance time based on a calendar date for modifying the control circuit for the fuel pump of the center fuel tank (installing ground fault interrupters to the center tank fuel pump control circuit), the compliance date is September 18, 2016 (48 months after the effective date of AD 2012-16-05, Amendment 39-17152 (77 FR 48425, August 14, 2012)).

(i) No Alternative Actions, Intervals, or Critical Design Configuration Control Limitations (CDCCLs)

After accomplishing the revision required by paragraph (g) of this AD, no alternative actions (e.g., inspections), intervals, or CDCCLs may be used; except as specified in paragraph (h) of this AD; or unless the actions, intervals, or CDCCLs are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

Refer to Mandatory Continuing Airworthiness Information (MCAI) European Aviation Safety Agency Airworthiness Directive 2012-0168, dated August 31, 2012; for related information. You may examine the MCAI in the AD docket on the Internet at http://www.regulations.gov/#!documentDetail;D=FAA-2014-0060-0002.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A330 Airworthiness Limitations Section (ALS) Part 5—Fuel Airworthiness Limitations, dated November 16, 2011. The cover page of this document is undated and identified as Revision 00.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 4, 2014.
Jeffrey E. Duven,
Manager, Transport Airplane Directorate, Aircraft Certification Service.

[FR Doc. 2014-19363 Filed 8-20-14; 8:45 am]

BILLING CODE 4910-13-P